DEPARTMENT OF ENERGY

International Energy Agency Meeting

AGENCY: Department of Energy (DOE).

ACTION: Notice of meetings.

SUMMARY: The Industry Advisory Board (IAB) to the International Energy Agency (IEA) will meet on June 21, 2005, at the headquarters of the IEA in Paris, France, in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 21, 2005, beginning at 11:30 a.m. The purpose of this notice is to permit attendance by representatives of U.S. company members of the IAB at a meeting of the IEA's Standing Group on Emergency Questions (SEQ), which is scheduled to be held at the IEA on June 21, beginning at 2:30 p.m. and continuing at 9:30 a.m. on June 22, including a preparatory encounter among company representatives from 11:30 a.m. to 12:15 p.m. on June 21. The agenda for the preparatory encounter is as follows:

I. Welcome, Review of Agenda, and Introductions

II. Input on SEQ Work Plans

—Workshops to Expand SEQ Member Knowledge on Oil Markets

—Emergency Response Exercise 4

—IEA/EC Convergence of Reporting

—Non-Member Country Cooperation

III. Closing and Review of Meetings of Interest to IAB Members

—Workshop on Oil Stockpiling in the APEC Region, July 26-27, 2005, Honolulu

—SEQ and IAB Meeting, November 17-18, 2005, Paris

—SEQ and IAB Meeting, March 22-23, 2006, Paris

—SEQ and IAB Meeting, June 21-22, 2006, Paris

—SEQ and IAB Meeting, November 15-16, 2006, Paris

The agenda for the SEQ meeting is under the control of the SEQ. It is expected that the SEQ will adopt the following agenda:

1. Adoption of the Agenda

2. Approval of the Summary Record of the 113th Meeting

3. Emergency Response Review Program (part 1)

—Emergency Response Review of the Netherlands

4. The Current Oil Market Situation

—Report on the Current Oil Market

5. Report on the Current Activities of the IAB

—Report on Current Activities

—Presentation: How the Oil Market Functions

6. Presentation: What Constitutes an Oil Supply Crisis? What Are the Ramifications of Action vs. Inaction?

7. SEQ Program of Work

—Overview of Future Work in 2005

—Results of IEA Priority-Setting Exercise

—Evaluation of Program of Work

—Report on June Governing Board Meeting Discussion on Program of Work

8. Update on Compliance with IEP Stockholding Commitments

—Update on Compliance with IEP Stockholding Commitments

—Reports by Non-Complying Member Countries

9. Report on Recent Governing Board Meetings

10. Emergency Response Review Program (part 2)

—Emergency Response Review of New Zealand

—Emergency Response Review of Italy

11. Other Emergency Response Activities

—Proposed Work on Gas Supply Emergency Policies

12. Activities with Non-Member Countries and International Organizations

—Offer of a Voluntary Contribution by the United Kingdom

—Asian Overseas Oil Investment: Can the National Oil Companies Deliver?

—Report on 3rd IEA/OPEC Workshop, May 15, 2005, Kuwait

—Workshop on Oil Stockpiling in the APEC Region, July 26-27, 2005, Honolulu

13. Emergency Response Review Program (part 3)

—Emergency Response Review of Greece

—Questionnaire Response of Denmark

—Questionnaire Response of Sweden

—Schedule of Emergency Response Reviews

14. Policy and Other Developments in Member Countries

15. Other Documents for Information

—Emergency Reserve Situation of IEA Member Countries

—Emergency Reserve Situation of IEA Candidate Countries

—Monthly Oil Statistics: March 2005

—Base Period Final Consumption: 2Q 2004-1Q 2005

—Quarterly Oil Forecast: 2Q 2005

—Update of Emergency Contacts List

16. Other Business

—Dates of Next Meetings (tentative): November 17-18, 2005; March 21-23, 2006; June 20-21, 2006; November 14-16, 2006.

As provided in section 252(c)(1)(A)(ii) of the Energy Policy and Conservation Act (42 U.S.C. 6272(c)(1)(A)(ii)), the meetings of the IAB are open to representatives of members of the IAB and their counsel; representatives of members of the IEA's Standing Group on Emergency Questions (SEQ); representatives of the Departments of Energy, Justice, and State, the Federal Trade Commission, the General Accounting Office, Committees of Congress, the IEA, and the European Commission; and invitees of the IAB, the SEQ, or the IEA.

Issued in Washington, DC, June 8, 2005.
Samuel M. Bradley,
Assistant General Counsel for International and National Security Programs.

[FR Doc. 05-11725 Filed 6-13-05; 8:45 am]

BILLING CODE 6450-01-P